DEPARTMENT OF STATE

[Public Notice 7058]

60-Day Notice of Proposed Information Collection: Form DS-5504, Application for a U.S. Passport: Name Change, Data Correction, and Limited Passport Book Replacement, OMB Control Number 1405-0160

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Application for a U.S. Passport: Name Change, Data Correction, And Limited Passport Book Replacement.

• OMB Control Number: 1405-0160.

• Type of Request: Revision of a Currently Approved Collection.

• Originating Office: Bureau of Consular Affairs, Passport Services CA/PPT.

• Form Number: DS-5504.

• Respondents: Individuals or Households.

• Estimated Number of Respondents: 181,000 respondents per year.

• Estimated Number of Responses: 181,000 responses per year.

• Average Hours per Response: 30 minutes.

• Total Estimated Burden: 90,500 hours per year.

• Frequency: On occasion.

• Obligation to Respond: Required to Obtain or Retain a Benefit.

DATES: The Department will accept comments from the public up to 60 days from June 21, 2010.

ADDRESSES: You may submit comments by any of the following methods:

• E-mail: PPT-Forms-Officer@state.gov.

• Mail (paper, disk, or CD-ROM submissions): Passport Forms Management Officer, U.S. Department of State, Office of Program Management and Operational Support, 2100 Pennsylvania Avenue, NW., Room 3031, Washington, DC 20037.

You must include the DS form number (if applicable), information collection title, and OMB control number in any correspondence.

FOR FURTHER INFORMATION CONTACT: Direct requests for additional information regarding the collection listed in this notice, including requests for copies of the proposed information collection and supporting documents, to Passport Forms Management Officer, U.S. Department of State, Office of Program Management and Operational Support, 2100 Pennsylvania Avenue, NW., Room 3031, Washington, DC 20037, who may be reached on 202-663-2457 or at PPT-Forms-Officer@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The information collected on the DS-5504 is used to facilitate the re-issuance of passports to U.S. citizens and nationals when (a) the passport holder's name has changed within the first year of the issuance of the passport; (b) the passport holder needs correction of descriptive information on the data page of the passport; or (c) the passport holder wishes to obtain a fully valid passport after obtaining a full-fee passport with a limited validity of two years or less. The primary purpose of soliciting the information is to establish citizenship, identity, and entitlement of the applicant to the U.S. passport or related service, and to properly administer and enforce the laws pertaining to the issuance thereof.

Methodology: Passport Services collects information from U.S. citizens and non-citizen nationals when they complete and submit the Application for a U.S. Passport: Name Change, Data Correction, and Limited Passport Book Replacement. Passport applicants can either download the DS-5504 from the internet or obtain one from an Acceptance Facility/Passport Agency. The form must be completed, signed, and submitted along with the applicant's valid U.S. passport and supporting documents for corrective action.

Dated: June 10, 2010.
Brenda Sprague,
Deputy Assistant Secretary for Passport Services, Bureau of Consular Affairs, Department of State.

[FR Doc. 2010-14913 Filed 6-18-10; 8:45 am]

BILLING CODE 4710-06-P